DEPARTMENT OF DEFENSE

Office of the Secretary

Defense Science Board; Notice of Federal Advisory Committee Meeting

AGENCY: Under Secretary of Defense for Acquisition, Technology, and Logistics, Department of Defense.

ACTION: Notice of Federal Advisory Committee meeting.

SUMMARY: The Department of Defense (DoD) is publishing this notice to announce that the following Federal Advisory Committee meeting of the Defense Science Board (DSB) will take place.

DATES: Day 1—Closed to the public Wednesday, May 17, 2017, from 8:00 a.m. to 12:00 p.m. and 1:00 p.m. to 5:00 p.m.; Day 2—Closed to the public Thursday, May 18, 2017 from 10:00 a.m. to 12:00 p.m. and 1:00 p.m. to 3:45 p.m.

ADDRESSES: The address of the closed meeting is the Nunn-Lugar Conference, Room 3E863, 3140 Defense Pentagon, Washington, DC 20301.

FOR FURTHER INFORMATION CONTACT: Defense Science Board Designated Federal Officer (DFO) Ms. Karen D.H. Saunders, (703) 571-0079 (Voice), (703) 697-1860 (Facsimile), karen.d.saunders.civ@mail.mil (Email). Mailing address is Defense Science Board, 3140 Defense Pentagon, Room 3B888A, Washington, DC 20301-3140. Web site: http://www.acq.osd.mil/dsb/. The most up-to-date changes to the meeting agenda can be found on the Web site.

SUPPLEMENTARY INFORMATION: Due to circumstances beyond the control of the Designated Federal Officer and the Department of Defense, the Defense Science Board was unable to provide public notification concerning its meeting on May 17 through 18, 2017, as required by 41 CFR 102-3.150(a). Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The mission of the DSB is to provide independent advice and recommendations on matters relating to the DoD's scientific and technical enterprise. The objective of the meeting is to obtain, review, and evaluate classified information related to the DSB's mission. DSB membership will meet with DoD Leadership to discuss current and future national security challenges within the DoD. This meeting will focus on updates on the new administration's directives as they relate to the 2017 summer studies on national leadership command capability and countering anti-access systems with longer range and standoff capabilities, as well as the new task forces on survivable logistics and advanced technology demonstrations.

Agenda: Day one briefings will include opening remarks from Ms. Karen Saunders, Designated Federal Officer, Dr. Craig Fields, DSB Chairman, and Dr. Eric Evans, DSB Vice Chairman; a discussion about the Office of the Secretary of Defense (OSD) under the current administration's defense priorities with the Honorable Jim Mattis, Secretary of Defense; a briefing on U.S. Strategic Command (USSTRATCOM) operations from General Hyten, Commander, USSTRATCOM; a briefing on the view and priorities of the Navy under the current administration from Vice Admiral James Foggo, Director, Navy Staff; a briefing on the operations and priorities of the Missile Defense Agency under the current administration from Vice Admiral James Syring, Director, Missile Defense Agency; a presentation on a DSB quick response structure to new defense technologies and issues from Dr. Anita Jones and Dr. Ken Gabriel, DSB members; a briefing on the future of the Air Force from General Goldfein, Chief of Staff, U.S. Air Force; remarks on the 2017 DSB Summer Study on National Leadership Command Capabilities (NLCC) from a DoD perspective by Dr. John Zangardi, Chief Information Officer, Department of Defense; and Dr. Miriam John and Mr. Robert Stein, DSB NLCC summer study co-chairs, will present the DSB 2017 Summer Study framework on NLCC. Dr. Fields will provide closing remarks at the end of the day. Day Two briefings will include a briefing on the operations and priorities of the Army under the current administration from General Mark Milley, Chief of Staff, U.S. Army; a briefing on the operations of the Defense Advanced Research Projects Agency (DARPA) from Dr. Steve Walker, Acting Director, DARPA; a briefing on the 2016 DARPA Cyber Challenge and the future of the Challenge from Mr. Mike Walker, Program Manager, DARPA Cyber Challenge; a briefing on the new Navy Strategic Plan and an update on the National Defense Authorization Act (NDAA) Section 901-A changes from Mr. Sean Stackley, Acting Secretary of the Navy; a discussion on the future of the Acquisition, Technology and Logistics (AT&L) component with Mr. James MacStravic, Performing the Duties of Under Secretary of Defense for AT&L; and Drs. Fields and Evans will provide closing remarks to provide any action items for DSB members to complete.

Meeting Accessibility: In accordance with section 10(d) of the FACA and 41 CFR 102-3.155, the DoD has determined that the DSB meeting will be closed to the public. Specifically, the Under Secretary of Defense (Acquisition, Technology, and Logistics), in consultation with the DoD Office of General Counsel, has determined in writing that the meeting will be closed to the public because matters covered by 5 U.S.C. 552b(c)(1) will be considered. The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the Under Secretary of Defense for Acquisition, Technology, and Logistics.

Written Statements: In accordance with section 10(a)(3) of the FACA and 41 CFR 102-3.105(j) and 102-3.140, interested persons may submit a written statement for consideration by the DSB at any time regarding its mission or in response to the stated agenda of a planned meeting. Individuals submitting a written statement must submit their statement to the DSB DFO provided in this notice at any point; however, if a written statement is not received at least 3 calendar days prior to the meeting, which is the subject of this notice, then it may not be provided to or considered by the DSB members until the next meeting of the DSB. The DFO will review all submissions with the DSB Chair and ensure they are provided to members of the DSB before its final deliberations on May 18, 2017.

Dated: May 11, 2017.
Aaron Siegel,
Alternate OSD Federal Register Liaison Officer, Department of Defense.

[FR Doc. 2017-09853 Filed 5-15-17; 8:45 am]

BILLING CODE 5001-06-P